DEPARTMENT OF HOMELAND SECURITY

Coast Guard

33 CFR Part 110

[USCG-2023-0485]

RIN 1625-AA01

Establish Anchorage Ground; Rice Island Anchorage, Columbia River, Oregon and Washington

AGENCY: Coast Guard, DHS.

ACTION: Final rule.

SUMMARY: The Coast Guard is establishing an anchorage ground near Rice Island, Oregon on the Lower Columbia River. The purpose of this rule is to improve navigation safety by establishing an area to provide for the safe anchoring of commercial vessels in the navigable waters of the Lower Columbia River.

DATES: This rule is effective January 15, 2025.

ADDRESSES: To view documents mentioned in this preamble as being available in the docket, go to https://www.regulations.gov, type USCG-2023-0485 in the search box and click “Search.” Next, in the Document Type column, select “Supporting & Related Material.”

FOR FURTHER INFORMATION CONTACT: If you have questions about this rule, call or email Lieutenant Commander Jesse Wallace, Waterways Management Division, Sector Columbia River, U.S. Coast Guard; telephone 503-240-9319, email SCRWWM@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

In the last several years, the Columbia River Marine Transportation System has seen an increase in commercial traffic and vessel size near the Lower Columbia River, thus creating a concern for anchorage capacity around that area. The Columbia River Steamship Operators Association and the Columbia River Pilots formally requested the Coast Guard review and evaluate the establishment of this new anchorage ground to address the safety and navigation concerns with the expanding vessel traffic in the Lower Columbia River. In response, on December 28, 2023, the Coast Guard published a notice of proposed rulemaking (NPRM) titled “Establish Anchorage Ground; Rice Island Anchorage, Columbia River, Oregon and Washington” (88 FR 89646). There we stated why we issued the NPRM and invited comments on our proposed regulatory action to establish this anchorage ground. During the comment period that ended February 26, 2024, we received 39 comments. The Coast Guard opened another 30-day comment period that ended on June 7, 2024 (89 FR 38854), in which we received an additional 3 comments. In total, we had 90 days of comment period and received 42 total comments.

III. Legal Authority and Need for Rule

Under Title 33 of the Code of Federal Regulations (CFR) 109.05, the Commandant of the Coast Guard has delegated the authority to establish anchorage grounds to Coast Guard District Commanders. The Coast Guard establishes anchorage grounds under Section 7 of the Rivers and Harbors Act of March 4, 1915, as amended (38 Stat. 1053; 46 U.S.C. 70006) and places these regulations in Title 33 CFR part 110, subpart B. The purpose of this rule is to establish a Federal anchorage ground in the Lower Columbia River to improve safety of navigation by creating additional anchorage grounds for the increased vessel traffic transiting through the Lower Columbia River. The Coast Guard is issuing this rule under its authority in 46 U.S.C. 70034.

IV. Discussion of Comments, Changes, and the Rule

As noted above, we received 42 total comments on our NPRM during the 2 comment periods. One comment asked the Coast Guard to consider three observations regarding the establishment of the proposed anchorage ground. First, the anchorage ground depth. Second, a charted sandwave area that intersects the proposed anchorage ground. And third, the boundary coordinates for the proposed anchorage ground are stated as latitude and longitude without a statement of the associated horizontal datum. Another comment made by a self-identified member of a non-federally recognized tribe, asked the Coast Guard to consider all potential impacts to the Green Sturgeon, a threatened species of fish present in the lower Columbia River Estuary. The other comments wrote in support of the proposed anchorage ground and are not discussed here.

A. Anchorage Ground Depth

The commenter noted there is variation in the depth of the anchorage ground and that some vessels with deep drafts would need to be cognizant of areas within the anchorage shallower than 43 feet. The commenter also asked if there are plans to dredge the shallower areas to a standard depth of 43 feet. The Coast Guard believes the range of depths within the anchorage ground will accommodate a variety of vessel types and configurations. If it is later determined that dredging is required, then 33 U.S.C. 365 authorizes the United States Army Corps of Engineers to dredge within, and adjacent to, Federal anchorages established by the Coast Guard. Environmental reviews and approvals are required prior to dredging in the anchorage.

B. Charted Sandwaves

The commenter indicated that a sandwave shoal formation intersects the anchorage ground. Sandwave shoal formations are common throughout the Lower Columbia River to include the area of the anchorage ground. Presence of sandwave shoal formations have not historically precluded this area from being used as an anchorage ground.

C. Horizontal Datum

The commenter asked us to explicitly state the horizontal datum for the anchorage ground. The NPRM included the boundary coordinates for the anchorage ground as latitude and longitude without a statement of the associated horizontal datum. In response to this comment, we revised the associated horizontal datum in the regulatory text at the end of this rulemaking. All other regulatory text remains unchanged.

D. Green Sturgeon

One commenter asked the Coast Guard to consider all potential impacts to the Green Sturgeon, a threatened species of fish present in the lower Columbia River Estuary. While the anchorage ground is located within the Green Sturgeon's critical habitat, this rule will have no effect on the Green Sturgeon or the critical habitat. This rule will not disturb the Green Sturgeon's ability to spawn or forage for food. Moreover, this rule will not create an increase in vessel traffic through its habitat or impede its migratory pathway through the Columbia River.

E. Final Rule

This rule establishes a Federal anchorage ground in the vicinity of Rice Island, in the Lower Columbia River. The specific coordinates for this anchorage ground are included in the regulatory text at the end of this document.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the location and size of the anchorage ground, as well as the vessel traffic and anchoring data provided by the Coast Guard Navigation Center. The regulation will ensure approximately 1.745 square miles of anchorage grounds are designated to provide necessary commercial deep draft anchorages and enhance the safety of navigation to commercial vessels transiting to, from, and within the Columbia River. The expected impact to navigation created by the establishment of this anchorage ground is expected to be minimal because the anchorages ground is located outside the federal channel and is consistent with current anchorage habits. When not occupied, vessels will be able to maneuver in, around, and through the anchorages.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to use the anchorage ground may be small entities, for reasons stated in section V.A above, this rule would not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

All guidance set out in Executive Order 13132 and 13175 were followed prior to this rulemaking and there is no objection in moving forward with this rulemaking from a federally recognized tribe.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969(42 U.S.C. 4321-4370f), and have determined that this action is one of a category of actions that do not individually or cumulatively have a significant effect on the human environment. This rule involves establishing an anchorage ground, Rice Island Anchorage, in an area traditionally used by commercial ships for anchoring in the Lower Columbia River system; and increasing the safety of navigation and anchorage capacity of the Lower Columbia River system. It is categorically excluded from further review under paragraph L59(a) of Appendix A, Table 1 of DHS Instruction Manual 023-01-001-01, Rev. 1. A Record of Environmental Consideration supporting this determination is available in the docket. For instructions on locating the docket, see the ADDRESSES section of this preamble.

List of Subjects in 33 CFR Part 110

Anchorage grounds.

For the reasons discussed in the preamble, the Coast Guard amends 33 CFR part 110 as follows:

PART 110—ANCHORAGE REGULATIONS

1. The authority citation for part 110 continues to read as follows:

Authority: 33 U.S.C. 2071; 46 U.S.C. 70006, 70034; 33 CFR 1.05-1; Department of Homeland Security Delegation No. 00170.1 Revision No. 01.3.

2. Amend § 110.228 by adding paragraph (a)(12) to subpart B to read as follows:

§ 110.228 Columbia River, Oregon and Washington.

(a) * * *

(12) Rice Island Anchorage. All waters in the vicinity of Rice Island, Oregon, bound by a line connecting the following points, which are based on the World Geodetic System (WGS 84):

Table 3 to Paragraph (a)(12)
Latitude | Longitude
46°13′15.60″ | 123°46′28.20″
46°13′37.20″ | 123°45′22.20″
46°14′42.00″ | 123°43′12.00″
46°14′52.80″ | 123°42′12.00″
46°14′42.60″ | 123°42′00.00″
46°13′47.40″ | 123°43′48.60″
46°13′36.60″ | 123°44′15.60″
46°13′07.20″ | 123°45′58.20″
46°13′00.60″ | 123°46′16.80″

* * * * *

Dated: December 3, 2024.
Charles E. Fosse,
Rear Admiral, U.S. Coast Guard, Commander, Thirteenth Coast Guard District.

[FR Doc. 2024-29536 Filed 12-12-24; 8:45 am]

BILLING CODE 9110-04-P